DEPARTMENT OF HOMELAND SECURITY

Federal Emergency Management Agency

44 CFR Part 65

[Docket ID FEMA-2012-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Associate Administrator for Mitigation has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Mobile (FEMA Docket No. B-1225) | Unincorporated areas of Mobile County (11-04-0759P) | August 2, 2011; August 9, 2011; The Press-Register | The Honorable Connie Hudson, President, Mobile County Commission, 205 Government Street, Mobile, AL 36644 | December 7, 2011 | 015008
Mobile (FEMA Docket No. B-1225) | Unincorporated areas of Mobile County (11-04-0760P) | August 2, 2011; August 9, 2011; The Press-Register | The Honorable Connie Hudson, President, Mobile County Commission, 205 Government Street, Mobile, AL 36644 | December 7, 2011 | 015008
Mobile (FEMA Docket No. B-1225) | Unincorporated areas of Mobile County (11-04-0761P) | August 11, 2011; August 18, 2011; The Press-Register | The Honorable Connie Hudson, President, Mobile County Commission, 205 Government Street, Mobile, AL 36644 | December 16, 2011 | 015008
Mobile (FEMA Docket No. B-1225) | Unincorporated areas of Mobile County (11-04-0762P) | August 4, 2011; August 11, 2011; The Press-Register | The Honorable Connie Hudson, President, Mobile County Commission, 205 Government Street, Mobile, AL 36644 | December 5, 2011 | 015008
Arizona:
Cochise (FEMA Docket No.: B-1240) | City of Sierra Vista (11-09-2096P) | October 28, 2011; November 4, 2011; The Sierra Vista Herald | The Honorable Rick Mueller, Mayor, City of Sierra Vista, 1011 North Coronado Drive, Sierra Vista, AZ 85635 | October 20, 2011 | 040017
Coconino (FEMA Docket No.: B-1231) | City of Flagstaff (11-09-2204P) | June 3, 2011; June 10, 2011; The Arizona Daily Sun | The Honorable Sara Presler, Mayor, City of Flagstaff, 211 West Aspen Avenue, Flagstaff, AZ 86001 | May 27, 2011 | 040020
Pima (FEMA Docket No.: B-1231) | City of Tucson (11-09-1158P) | August 5, 2011; August 12, 2011; The Arizona Daily Star | The Honorable Bob Walkup, Mayor, City of Tucson, 255 West Alameda Street, Tucson, AZ 85701 | August 29, 2011 | 040076
Pima (FEMA Docket No.: B-1231) | Unincorporated areas of Pima County (12-09-0017P) | May 31, 2011; June 7, 2011; The Daily Territorial | The Honorable Ramon Valadez, Chairman, Pima County Board of Supervisors, 130 West Congress Street, 11th Floor, Tucson, AZ 85701 | October 6, 2011 | 040073
Arkansas: Benton (FEMA Docket No.: B-1228) | City of Bella Vista (11-06-1141P) | September 7, 2011; September 14, 2011; The Bella Vista Weekly Vista | The Honorable Frank E. Anderson, Mayor, City of Bella Vista, 406 Town Center Northeast, Bella Vista, AR 72714 | January 12, 2012 | 050511
California:
Butte (FEMA Docket No.: B-1235) | Unincorporated areas of Butte County (11-09-3448P) | October 7, 2011; October 14, 2011; The Chico Enterprise-Record | The Honorable Steve Lambert, Chairman, Butte County Board of Supervisors, 3159 Nelson Avenue, Oroville, CA 95965 | February 13, 2012 | 060017
Napa (FEMA Docket No.: B-1235) | City of Napa (11-09-3313P) | October 14, 2011; October 21, 2011; The Napa Valley Register | The Honorable Jill Techel, Mayor, City of Napa, 955 School Street, Napa, CA 94559 | February 20, 2012 | 060207
Napa (FEMA Docket No.: B-1235) | Unincorporated areas of Napa County (11-09-3313P) | October 14, 2011; October 21, 2011; The Napa Valley Register | The Honorable Bill Dodd, Chairman, Napa County Board of Supervisors, 1195 3rd Street, Suite 310, Napa, CA 94559 | February 20, 2012 | 060205
San Mateo (FEMA Docket No.: B-1235) | City of San Carlos (11-09-1259P) | October 7, 2011; October 14, 2011; The San Mateo Daily Journal | The Honorable Andy Klein, Mayor, City of San Carlos, 600 Elm Street, San Carlos, CA 94070 | February 13, 2012 | 060327
Solano (FEMA Docket No.: B-1235) | City of Fairfield (11-09-1570P) | October 20, 2011; October 27, 2011; The Daily Republic | The Honorable Harry T. Price, Mayor, City of Fairfield, 1000 Webster Street, Fairfield, CA 94533 | February 24, 2012 | 060370
Colorado: Adams & Arapahoe (FEMA Docket No.: B-1235) | City of Aurora (11-08-0699P) | October 6, 2011; October 13, 2011; The Aurora Sentinel | The Honorable Ed Tauer, Mayor, City of Aurora, 15151 East Alameda Parkway, Aurora, CO 80012 | February 10, 2012 | 080002
Delaware:
Kent (FEMA Docket No.: B-1237) | Town of Camden (10-03-0303P) | February 18, 2011; February 25, 2011; The Delaware State News | The Honorable Richard E. Maly, Mayor, Town of Camden, 1783 Friends Way, Camden, DE 19934 | June 27, 2011 | 100003
Kent (FEMA Docket No.: B-1237) | Unincorporated areas of Kent County (10-03-0303P) | February 18, 2011; February 25, 2011; The Delaware State News | The Honorable P. Brooks Banta, President, Kent County Levy Court, Administrative Complex, 555 South Bay Road, Room 243, Dover, DE 19901 | June 27, 2011 | 100001
Florida:
Seminole (FEMA Docket No.: B-1235) | City of Altamonte Springs (11-04-7292P) | October 27, 2011; November 3, 2011; The Orlando Sentinel | The Honorable Patricia Bates, Mayor, City of Altamonte Springs, 225 Newburyport Avenue, Altamonte Springs, FL 32701 | October 20, 2011 | 120290
Seminole (FEMA Docket No.: B-1235) | Unincorporated areas of Seminole County (11-04-7523P) | October 27, 2011; November 3, 2011; The Orlando Sentinel | The Honorable Brenda Carey, Chair, Seminole County Board of Commissioners, 1101 East 1st Street, Sanford, FL 32771 | October 20, 2011 | 120289
Seminole (FEMA Docket No.: B-1240) | Unincorporated areas of Seminole County (11-04-8756X) | November 4, 2011; November 11, 2011; The Orlando Sentinel | The Honorable Brenda Carey, Chair, Seminole County Board of Commissioners, 1101 East 1st Street, Sanford, FL 32771 | October 26, 2011 | 120289
St. Johns (FEMA Docket No.: B-1235) | Unincorporated areas of St. Johns County (11-04-4627P) | October 5, 2011; October 12, 2011; The St. Augustine Record | The Honorable Joseph Bryan, Chairman, St. Johns County Board of Commissioners, 500 San Sebastian View, St. Augustine, FL 32084 | February 9, 2012 | 125147
Georgia:
Cherokee (FEMA Docket No.: B-1240) | Unincorporated areas of Cherokee County (10-04-8275P) | October 7, 2011; October 14, 2011; The Cherokee Tribune | The Honorable L. B. Ahrens, Jr., Chairman, Cherokee County Board of Commissioners, 1130 Bluffs Parkway, Canton, GA 30114 | February 13, 2012 | 130424
Columbia (FEMA Docket No.: B-1235) | Unincorporated areas of Columbia County (11-04-5127P) | November 2, 2011; November 9, 2011; The Columbia County News-Times | The Honorable Ron C. Ross, Chairman, Columbia County Board of Commissioners, 630 Ronald Reagan Drive, Building B, 2nd Floor, Evans, GA 30809 | October 27, 2011 | 130059
Nevada:
Clark (FEMA Docket No.: B-1235) | City of Henderson (11-09-3801P) | October 6, 2011; October 13, 2011; The Las Vegas Review-Journal | The Honorable Andy A. Hafen, Mayor, City of Henderson, 240 Water Street, Henderson, NV 89015 | February 10, 2012 | 320005
Clark (FEMA Docket No.: B-1235) | Unincorporated areas of Clark County (11-09-3801P) | October 6, 2011; October 13, 2011; The Las Vegas Review-Journal | The Honorable Susan Brager, Chair, Clark County Board of Commissioners, 500 South Grand Central Parkway, Las Vegas, NV 89155 | February 10, 2012 | 320003
Oklahoma: Oklahoma (FEMA Docket No.: B-1228) | City of Oklahoma City (10-06-1424P) | September 13, 2011; September 20, 2011; The Journal Record | The Honorable Mick Cornett, Mayor, City of Oklahoma City, 200 North Walker Avenue, 3rd Floor, Oklahoma City, OK 73102 | January 18, 2012 | 405378
Puerto Rico: Puerto Rico (FEMA Docket No.: B-1237 | Commonwealth of Puerto Rico (10-02-1752P) | October 13, 2011; October 20, 2011; El Nuevo Dia | The Honorable Ruben Flores-Marzan, Chairperson, Puerto Rico Planning Board, Roberto Sanchez Vilella Governmental Center, North Building, 16th Floor, De Diego Avenue International Baldorioty de Castro Avenue, San Juan, PR 00940 | October 6, 2011 | 720000
Texas:
Bell (FEMA Docket No.: B-1234) | City of Temple (10-06-3631P) | September 27, 2011; October 4, 2011; The Temple Daily Telegram | The Honorable William A. Jones III, Mayor, City of Temple, 2 North Main Street, Temple, TX 76501 | February 1, 2012 | 480034
Bexar (FEMA Docket No.: B-1234) | City of San Antonio (11-06-1853P) | October 6, 2011; October 13, 2011; The San Antonio Express-News | The Honorable Julian Castro, Mayor, City of San Antonio, 100 Military Plaza, San Antonio, TX 78205 | February 10, 2012 | 480045
Bexar (FEMA Docket No.: B-1237) | City of San Antonio (11-06-0604P) | November 4, 2011; November 11, 2011; The San Antonio Express-News | The Honorable Julian Castro, Mayor, City of San Antonio, 100 Military Plaza, San Antonio, TX 78205 | March 12, 2012 | 480045
Bexar (FEMA Docket No.: B-1237) | Unincorporated areas of Bexar County (11-06-3419P) | November 16, 2011; November 23, 2011; The Daily Commercial Recorder | The Honorable Nelson W. Wolff, Bexar County Judge, 101 West Nueva Street, 10th Floor, San Antonio, TX 78205 | March 22, 2012 | 480035
Collin (FEMA Docket No.: B-1234) | City of McKinney (11-06-0938P) | October 5, 2011; October 12, 2011; The McKinney Courier-Gazette | The Honorable Brian Loughmiller, Mayor, City of McKinney, 222 North Tennessee Street, McKinney, TX 75069 | February 9, 2012 | 480135
Collin (FEMA Docket No.: B-1234) | City of Richardson (11-06-2276P) | October 4, 2011; October 11, 2011; The Dallas Morning News | The Honorable Bob Townsend, Mayor, City of Richardson, 411 West Arapaho Road, Richardson, TX 75080 | February 8, 2012 | 480184
Denton (FEMA Docket No.: B-1237) | Town of Flower Mound (11-06-2301P) | October 25, 2011; November 1, 2011; The Denton Record-Chronicle | The Honorable Melissa D. Northern, Mayor, Town of Flower Mound, 2121 Cross Timbers Road, Flower Mound, TX 75028 | February 29, 2012 | 480777
Denton (FEMA Docket No.: B-1237) | Unincorporated areas of Denton County (11-06-1910P) | October 28, 2011; November 4, 2011; The Denton Record-Chronicle | The Honorable Mary Horn, Denton County Judge, 110 West Hickory Street, 2nd Floor, Denton, TX 76201 | October 21, 2011 | 480774
Johnson and Tarrant (FEMA Docket No.: B-1234) | City of Burleson (11-06-2791P) | October 12, 2011; October 19, 2011; The Burleson Star | The Honorable Ken Shetter, Mayor, City of Burleson, 141 West Renfro Street, Burleson, TX 76028 | February 16, 2012 | 485459
Medina (FEMA Docket No.: B-1234) | City of Castroville (11-06-0606P) | October 6, 2011; October 13, 2011; The Castroville News Bulletin | The Honorable Robert Lee, Mayor, City of Castroville, 1209 Fiorella Street, Castroville, TX 78009 | October 28, 2011 | 480932
Montgomery (FEMA Docket No.: B-1237) | Unincorporated areas of Montgomery County (11-06-3114P) | October 26, 2011; November 2, 2011; The Conroe Courier | The Honorable Alan Sadler, Montgomery County Judge, 501 North Thompson Street, Suite 401, Conroe, TX 77301 | October 19, 2011 | 480483
Tarrant (FEMA Docket No.: B-1234) | City of Arlington (10-06-3532P) | September 2, 2011; September 9, 2011; The Fort Worth Star-Telegram | The Honorable Dr. Robert N. Cluck, Mayor, City of Arlington, 101 West Abram Street, Arlington, TX 76010 | January 9, 2012 | 485454
Tarrant (FEMA Docket No.: B-1237) | City of Crowley (11-06-1037P) | November 3, 2011; November 10, 2011; The Crowley Star | The Honorable Billy P. Davis, Mayor, City of Crowley, 201 East Main Street, Crowley, TX 76036 | March 9, 2012 | 480591
Tarrant (FEMA Docket No.: B-1234) | City of Dalworthington Gardens (10-06-3532P) | September 2, 2011; September 9, 2011; The Fort Worth Star-Telegram | The Honorable Michael R. Tedder, Mayor, City of Dalworthington Gardens, 2600 Roosevelt Drive, Dalworthington Gardens, TX 76016 | January 9, 2012 | 481013
Tarrant (FEMA Docket No.: B-1234) | City of Fort Worth (11-06-2791P) | October 12, 2011; October 19, 2011; The Fort Worth Star-Telegram | The Honorable Betsy Price, Mayor, City of Fort Worth, 1000 Throckmorton Street, Fort Worth, TX 76102 | February 16, 2012 | 480596
Tarrant (FEMA Docket No.: B-1237) | City of Fort Worth (11-06-2373P) | November 1, 2011; November 8, 2011; The Fort Worth Star-Telegram | The Honorable Betsy Price, Mayor, City of Fort Worth, 1000 Throckmorton Street, Fort Worth, TX 76102 | March 7, 2012 | 480596
Tarrant (FEMA Docket No.: B-1234) | City of White Settlement (11-06-1375P) | September 28, 2011; October 5, 2011; The Grizzly Detail Newspaper | The Honorable Jerry R. Burns, Mayor, City of White Settlement, 214 Meadow Park Drive, White Settlement, TX 76108 | September 21, 2011 | 480617
Victoria (FEMA Docket No.: B-1237) | City of Victoria (11-06-1656P) | November 3, 2011; November 10, 2011; The Victoria Advocate | The Honorable Will Armstrong, Mayor, City of Victoria, 105 West Juan Linn Street, Victoria, TX 77901 | March 9, 2012 | 480638
Utah: Box Elder (FEMA Docket No.: B-1235) | City of Willard (11-08-0207P) | September 28, 2011; October 5, 2011; The Box Elder News Journal | The Honorable Ken Braegger, Mayor, City of Willard, 80 West 50 South, Willard, UT 84340 | February 2, 2012 | 490011
Virginia:
Fauquier (FEMA Docket No.: B-1234) | Unincorporated areas of Fauquier County (11-03-0275P) | July 27, 2011; August 3, 2011; The Fauquier Times-Democrat | The Honorable Raymond E. Graham, Chairman, Fauquier County Board of Supervisors, 10 Hotel Street, Suite 208, Warrenton, VA 20186 | December 1, 2011 | 510055
Henrico (FEMA Docket No.: B-1237) | Unincorporated areas of Henrico County (10-03-0514P) | December 14, 2010, December 21, 2010, The Richmond Times-Dispatch | Mr. Virgil R. Hazelett, Henrico County Manager, 4301 East Parham Road, Henrico, VA 23228 | April 20, 2011 | 510077
Prince William (FEMA Docket No.: B-1234) | Unincorporated areas of Prince William County (11-03-0494P) | September 14, 2011; September 21, 2011; The News & Messenger | The Honorable Corey A. Stewart, Chairman at Large, Prince William County Board of Supervisors, 1 County Complex Court, Prince William, VA 22192 | January 19, 2012 | 510119
Wyoming:
Campbell (FEMA Docket No.: B-1235) | City of Gillette (11-08-0780P) | October 18, 2011; October 25, 2011; The News-Record | The Honorable Tom Murphy, Mayor, City of Gillette, 201 East 5th Street, Gillette, WY 82717 | February 22, 2012 | 560007
Campbell (FEMA Docket No.: B-1240) | City of Gillette (11-08-0781P) | October 21, 2011; October 28, 2011; The News-Record | The Honorable Tom Murphy, Mayor, City of Gillette, 201 East 5th Street, Gillette, WY 82717 | February 27, 2012 | 560007
Campbell (FEMA Docket No.: B-1235) | Unincorporated areas of Campbell County (11-08-0780P) | October 18, 2011; October 25, 2011; The News-Record | The Honorable Stephen F. Hughes, Chairman, Campbell County Board of Commissioners, 500 South Gillette Avenue, Suite 1100, Gillette, WY 82717 | February 22, 2012 | 560081
Campbell (FEMA Docket No.: B-1240) | Unincorporated areas of Campbell County (11-08-0781P) | October 21, 2011; October 28, 2011; The News-Record | The Honorable Stephen F. Hughes, Chairman, Campbell County Board of Directors, 500 South Gillette Avenue, Suite #1100, Gillette, WY 82716 | February 27, 2012 | 560081

(Catalog of Federal Domestic Assistance No. 97.022, “Flood Insurance.”)

Dated: May 14, 2012.
Sandra K. Knight,
Deputy Associate Administrator for Mitigation, Department of Homeland Security, Federal Emergency Management Agency.

[FR Doc. 2012-12714 Filed 5-24-12; 8:45 am]

BILLING CODE 9110-12-P